DEPARTMENT OF DEFENSE

Office of the Secretary

TRICARE: Termination of the Worldwide TRICARE Transitional Health Care Demonstration Project

AGENCY: Office of the Secretary, DoD.

ACTION: Notice.

SUMMARY: Section 736 of the National Defense Authorization Act for Fiscal Year 2002 (NDAA-02), Pub. L. 107-107, eliminated transitional health care coverage for dependents of certain separating active duty members. On June 12, 2002, a Federal Register notice was published that created the Worldwide TRICARE Transitional Health Care Demonstration Project. The Demonstration provided eligibility for TRICARE transitional health care coverage to dependents excluded in the NDAA-02. The Notice stated that the Demonstration was to be in effect for 2 years or until rescinded by another authority.

Section 706 of the National Defense Authorization Act for Fiscal Year 03 re-inserted transitional health care coverage for dependents and deemed the provision to have been enacted as part of Section 736 of the NDAA-02 (retroactive to December 28, 2001). Consequently, the Worldwide TRICARE Transitional Health Care Demonstration Project is terminated.

EFFECTIVE DATE: December 28, 2001.

FOR FURTHER INFORMATION CONTACT: Ann N. Fazzini, Health Care Program Specialist (Reimbursement), TRICARE Management Activity, 16401 E. Centretech Parkway, Aurora, CO 80011-9066, telephone (303) 676-3803.

Dated: April 11, 2003.
L.M. Bynum,
Alternate OSD Federal Register Liaison Officer, Department of Defense.

[FR Doc. 03-9452 Filed 4-16-03; 8:45 am]

BILLING CODE 5001-08-M